DEPARTMENT OF VETERANS AFFAIRS

Advisory Committee on Women Veterans; Notice of Meeting

The Department of Veterans Affairs (VA) gives notice under Public Law 92-463 (Federal Advisory Committee Act) that the Advisory Committee on Women Veterans will meet September 16-18, 2003, from 8:30 a.m. to 5 p.m. each day. The meeting will be held at the Marriott Residence Inn, 1199 Vermont Avenue, NW., Washington Conference Room, Washington, DC 20005. The meeting is open to the public.

The purpose of the Committee is to advise the Secretary of Veterans Affairs regarding the need of women veterans with respect to health care, rehabilitation, compensation, outreach, and other programs and activities administered by the VA designed to meet such needs. The Committee will make recommendations to the Secretary regarding such programs and activities.

On September 16, the agenda will include briefings and updates on legislative issues affecting women veterans, the Women Veterans Health Program and the National Survey of Veterans. On September 17, the Committee will be briefed on issues regarding burial for women veterans, Committee membership requirements, and compensation and pension benefits. On September 18, the Committee will be briefed on veterans' health issues, Capital Asset Realignment for Enhanced Services (CARES), the VA Homeless Program and related issues that the Committee members may choose to introduce.

Any member of the public wishing to attend should contact Ms. Desiree Long, at the Department of Veterans Affairs, Center for Women Veterans (OOW), 810 Vermont Avenue, NW., Washington, DC 20420. Ms. Long may be contacted either by phone at (202) 273-6193, fax at (202) 273-7092, or e-mail at OOW@mail.va.gov. Interested persons may attend, appear before, or file statements with the Committee. Written statements must be filed before the meeting, or within 10 days after the meeting.

Dated: August 13, 2003.
By Direction of the Secretary.
E. Philip Riggin,
Committee Management Officer.

[FR Doc. 03-21797 Filed 8-25-03; 8:45 am]

BILLING CODE 8320-01-M